DEPARTMENT OF ENERGY

Federal Energy Regulatory Commission

[Project No. 3603-013]

Pitkin County, CO, City of Aspen, CO; Notice of Application for Transfer of License, and Soliciting Comments, Motions to Intervene, and Protests

June 2, 2009.

On May 12, 2009, Pitkin County, Colorado and City of Aspen, Colorado (Transferors) and City of Aspen, Colorado (Transferee) filed a joint application for transfer of license of the Ruedi Power Plant Project, located on the Fryingpan River in Pitkin and Eagle Counties, Colorado.

Applicants seek Commission approval to transfer the license for Ruedi Power Plant Project from Pitkin County, Colorado and City of Aspen, Colorado to City of Aspen, Colorado.

Applicant Contact: for Pitkin County: Mr. John M. Ely, Pitkin County Attorney, 530 E Main Street, Third Floor, Aspen, CO 81611. For the City of Aspen: Mr. Karl F. Kumli, III, Special Counsel for the City of Aspen, Dietze and Davis PC, 2060 Broadway, Suite 400, Boulder, CO 80302, phone (303) 447-1375.

FERC Contact: Robert Bell, (202) 502-6062.

Deadline for filing comments, protests, and motions to intervene: 30 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-3603-013) in the docket number field to access the document. For assistance, call toll-free 1-866-208-3372.

Kimberly D. Bose,
Secretary.

[FR Doc. E9-13362 Filed 6-8-09; 8:45 am]

BILLING CODE 6717-01-P